INTERNATIONAL TRADE COMMISSION

[USITC SE-10-026]

Government in the Sunshine Act Meeting Notice

Agency Holding the Meeting: United States International Trade Commission.

Time and Date: August 26, 2010 at 11 a.m.

Place: Room 101, 500 E Street, SW., Washington, DC 20436, Telephone: (202) 205-2000.

Status: Open to the public.

Matters to be Considered: 1. Agenda for future meetings: none.

2. Minutes.

3. Ratification List.

4. Inv. Nos. 701-TA-468 and 731-TA-1166-1167 (Final)(Certain Magnesia Carbon Bricks from China and Mexico)—briefing and vote. (The Commission is currently scheduled to transmit its determinations and Commissioners' opinions to the Secretary of Commerce on or before September 7, 2010.)

5. Outstanding action jackets:

(1.) Document No. GC-10-144 concerning approval of revised users' manual for Commission Mediation Program for investigations under section 337 of the Tariff Act of 1930.

In accordance with Commission policy, subject matter listed above, not disposed of at the scheduled meeting, may be carried over to the agenda of the following meeting.

Issued: August 19, 2010.
By order of the Commission.
William R. Bishop,
Hearings and Meetings Coordinator.

[FR Doc. 2010-21057 Filed 8-20-10; 11:15 am]

BILLING CODE 7020-02-P